DEPARTMENT OF ENERGY

Federal Energy Regulatory Commission

[Project No. 13705-000]

White Pine Waterpower, LLC; Notice of Preliminary Permit Application Accepted For Filing and Soliciting Comments, Motions To Intervene, and Competing Applications

May 10, 2010.

On April 6, 2010, White Pine Waterpower, LLC filed an application for a preliminary permit, pursuant to section 4(f) of the Federal Power Act, proposing to study the feasibility of the White Pine Pumped Storage Project located in White Pine County, Nevada, near the town of Ely. The sole purpose of a preliminary permit, if issued, is to grant the permit holder priority to file a license application during the permit term. A preliminary permit does not authorize the permit holder to perform any land-disturbing activities or otherwise enter upon lands or waters owned by others without the owners' express permission.

The proposed pumped storage project would consist of the following: (1) A 210-foot-high upper, rockfill dam; (2) an upper artificial, lined reservoir with a surface area of about 74 acres and volume of approximately 4,938 acre-feet at normal water surface elevation; (3) a lower artificial, lined reservoir with a surface area of about 72 acres and volume of approximately 5,011 acre-feet at normal water surface elevation; (4) 10,950 feet of conduit; (5) a proposed powerhouse 63 feet wide by 253 feet long by 120 feet high to be located underground approximately 3,620 feet west of the upper reservoir intake at an elevation of approximately 6,320 feet; (6) one 150-megawatt (MW), one 100-MW, and one 50-MW reversible pump-turbines totaling 300 MW in capacity with up to 100 MW of additional pumping capacity; (7) an access tunnel approximately 3,380 feet long and 24 feet in diameter leading from the ground level to the powerhouse; (8) a proposed 2.4-mile-long, 230 kilovolt transmission line to interconnect to a substation operated by Sierra Pacific Power; and (9) appurtenant facilities.

The development would have an annual generation of 919,800 megawatt-hours.

Applicant Contact: Matthew Shapiro, CEO, Gridflex Energy, LLC, 1210 W. Franklin St., Ste. 2, Boise, ID 83702; phone: (904) 216-0254.

FERC Contact: Shana Murray, 202-502-8333.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13705) in the docket number field to access the document. For assistance, contact FERC Online Support.

Kimberly D. Bose,
Secretary.

[FR Doc. 2010-11630 Filed 5-14-10; 8:45 am]

BILLING CODE 6717-01-P